DEPARTMENT OF STATE

22 CFR Parts 50 and 51

[Public Notice 10417]

RIN 1400-AD54

Passports

AGENCY: Department of State.

ACTION: Final rule; stay.

SUMMARY: The Department of State published a final rule in the Federal Register on May 11, 2018, amending the passport rules for the Department of State (the Department). The document stays the amendments in the May 11 rule until June 10, 2018.

DATES: Effective May 17, 2018, §§ 50.7(d), 50.11(b), 51.4(g)(1) and (8), 51.60(h) and (i), 51.62, 51.65, 51.66, and 51.70 through 51.74, are stayed until June 10, 2018.

FOR FURTHER INFORMATION CONTACT: Anita Mody, Office of Legal Affairs, Passport Services, (202) 485-6500, PassportRules@state.gov. Hearing- or speech-impaired persons may use the Telecommunications Devices for the Deaf (TDD) by contacting the Federal Information Relay Service at 1-800-877-8339.

SUPPLEMENTARY INFORMATION: The Department of State published a final rule on May 11, 2018 (83 FR 21872), which provided that the rule was effective on the date of publication. This document provides a stay of the amendments in that rule until 30 days after the date of the May 11, 2018, publication. The Regulatory Analysis published with that final rule is unchanged by this publication.

List of Subjects

22 CFR Part 50

Citizenship and naturalization.

22 CFR Part 51

Administrative practice and procedure, Drug traffic control, Passports and visas, Reporting and recordkeeping requirements.

Accordingly, for the reasons set forth above, the changes to 22 CFR parts 50 and 51 are stayed as follows:

PART 50—NATIONALITY PROCEDURES

1. The authority citation for part 50 continues to read as follows:

Authority: 22 U.S.C. 2651a; 8 U.S.C. 1104 and 1401 through 1504.

§ 50.7 [Amended]

2. In § 50.7, effective May 17, 2018, until June 10, 2018, paragraph (d) is stayed.

§ 50.11 [Amended]

3. In § 50.11, effective May 17, 2018, until June 10, 2018, paragraph (b) is stayed.

PART 51—PASSPORTS

4. The authority citation for part 51 continues to read as follows:

Authority: 8 U.S.C. 1504; 18 U.S.C. 1621, 2423; 22 U.S.C. 211a, 212, 212a, 212b, 213, 213n (Pub. L. 106-113 Div. B, Sec. 1000(a)(7) [Div. A, Title II, Sec. 236], 113 Stat. 1536, 1501A-430); 214, 214a, 217a, 218, 2651a, 2671(d)(3), 2705, 2714, 2721, 3926; 26 U.S.C. 6039E; 31 U.S.C. 9701; 42 U.S.C. 652(k) [Div. B, Title V of P.L. 103-317, 108 Stat. 1760]; E.O. 11295, FR 10603; Pub. L. 114-119, 130 Stat. 15; Sec. 1 of P.L. 109-210, 120 Stat. 319; Sec. 2 of P.L. 109-167, 119 Stat. 3578; Sec. 5 of P.L. 109-472, 120 Stat. 3554; P.L. 108-447, Div. B, Title IV 118 Stat. 2896; P.L. 108-458, 118 Stat. 3638, 3823.

§ 51.4 [Amended]

5. In § 51.4, effective May 17, 2018, until June 10, 2018, paragraphs (g)(1) and (8) are stayed.

§ 51.60 [Amended]

6. In § 51.60, effective May 17, 2018, until June 10, 2018, paragraphs (h) and (i) are stayed.

§ 51.62 [Amended]

7. Effective May 17, 2018, until June 10, 2018, § 51.62 is stayed.

§ 51.65 [Amended]

8. Effective May 17, 2018, until June 10, 2018, § 51.65 is stayed.

§ 51.66 [Amended]

9. Effective May 17, 2018, until June 10, 2018, § 51.66 is stayed.

§ 51.70 [Amended]

10. Effective May 17, 2018, until June 10, 2018, § 51.70 is stayed.

§ 51.71 [Amended]

11. Effective May 17, 2018, until June 10, 2018, § 51.71 is stayed.

§ 51.72 [Amended]

12. Effective May 17, 2018, until June 10, 2018, § 51.72 is stayed.

§ 51.73 [Amended]

13. Effective May 17, 2018, until June 10, 2018, § 51.73 is stayed.

§ 51.74 [Amended]

14. Effective May 18, 2018, until June 10, 2018, § 51.74 is stayed.

Janet M. Freer,
Director, Office of Directives Management, Department of State.

[FR Doc. 2018-10653 Filed 5-16-18; 8:45 am]

BILLING CODE 4710-24-P